DEPARTMENT OF TRANSPORTATION

Federal Aviation Administration

14 CFR Part 39

[Docket No. FAA-2005-22454; Directorate Identifier 2001-NM-108-AD; Amendment 39-14395; AD 2005-25-02]

RIN 2120-AA64

Airworthiness Directives; Aerospatiale Model ATR42-200, ATR42-300, and ATR42-320 Airplanes

AGENCY: Federal Aviation Administration (FAA), Department of Transportation (DOT).

ACTION: Final rule.

SUMMARY: The FAA is superseding an existing airworthiness directive (AD), which applies to all Aerospatiale Model ATR42-200, ATR42-300, and ATR42-320 airplanes. That AD currently requires inspections to determine the proper installation of rivets in certain key holes and to detect cracks in the area of the key holes where rivets are missing; and correction of discrepancies. The existing AD also requires various inspections of the subject area for discrepancies, and corrective actions if necessary; and replacement of certain cargo door hinges with new hinges. For certain airplanes, the existing AD also requires replacement of friction plates, stop fittings, and bolts with new parts. This new AD requires additional corrective actions for certain airplanes. This AD results from discovery of cracks around key holes on certain fuselage frames where rivets were missing. We are issuing this AD to prevent fatigue cracks of the cargo door skin, certain frames, and entry door stop fittings and friction plates, which could result in reduced structural integrity of the airplane.

DATES: This AD becomes effective January 9, 2006.

The Director of the Federal Register approved the incorporation by reference of a certain publication listed in the AD as of January 9, 2006.

On April 26, 2000 (65 FR 15226, March 22, 2000), the Director of the Federal Register approved the incorporation by reference of certain other publications.

On November 18, 1993 (58 FR 53853, October 19, 1993), the Director of the Federal Register approved the incorporation by reference of a certain publication.

ADDRESSES: You may examine the AD docket on the Internet at http://dms.dot.gov or in person at the Docket Management Facility, U.S. Department of Transportation, 400 Seventh Street SW., Nassif Building, room PL-401, Washington, DC.

Contact Aerospatiale, 316 Route de Bayonne, 31060 Toulouse, Cedex 03, France, for service information identified in this AD.

FOR FURTHER INFORMATION CONTACT: Tom Rodriguez, Aerospace Engineer, International Branch, ANM-116, Transport Airplane Directorate, FAA, 1601 Lind Avenue, SW., Renton, Washington 98055-4056; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2000-05-26, amendment 39-11636 (65 FR 15226, March 22, 2000). The existing AD applies to all ATR42-200, ATR42-300 and ATR42-320 airplanes. That NPRM was published in the Federal Register on September 19, 2005 (70 FR 54856). That NPRM proposed to continue to require inspections to determine the proper installation of rivets in certain key holes and to detect cracks in the area of the key holes where rivets are missing; and correction of discrepancies. That NPRM also proposed to continue to require various inspections of the subject area for discrepancies, and corrective actions if necessary; and replacement of certain cargo door hinges with new hinges. For certain airplanes, that NPRM proposed to continue to require replacement of friction plates, stop fittings, and bolts with new parts. That NPRM further proposed to require additional corrective actions for certain airplanes.

Comments

We provided the public the opportunity to participate in the development of this AD. No comments have been received on the NPRM or on the determination of the cost to the public.

Clarification of Effective Date

We have revised Note 2 of this AD to include the effective date of AD 2000-05-26.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the changes described previously. We have determined that these changes will neither increase the economic burden on any operator nor increase the scope of the AD.

Costs of Compliance

This AD will affect about 106 Aerospatiale Model ATR42-200, ATR42-300, and ATR42-320 airplanes of U.S. registry.

The general visual inspection of fuselage frames 25 and 27 that is required by AD 2000-05-26 and retained in this AD takes about 3 work hours per airplane, at an average labor rate of $65 per work hour. Based on these figures, the estimated cost of that currently required action is $195 per airplane.

The cargo door hinge and skin replacement that is required by AD 2000-05-26 and retained in this AD takes about 250 work hours per airplane, at an average labor rate of $65 per work hour. Required parts will cost approximately $9,880 per airplane. Based on these figures, the estimated cost of the currently required action is $26,130 per airplane.

The general visual inspection of the key and tooling holes that is required by AD 2000-05-26 takes about 100 work hours per airplane, at an average rate of $65 per work hour. Based on these figures, the estimated cost of that currently required action is $6,500 per airplane.

The eddy current and detailed visual inspections of the forward entry door stop fitting and friction plate that are required by AD 2000-05-26 take about 2 work hours per airplane, at an average rate of $65 per work hour. Based on these figures, the estimated cost of those currently required actions is $130 per airplane.

The replacement of the forward entry door stop fitting, friction plate, and upper door corner that is required by AD 2000-05-26 takes about 50 work hours per airplane, at an average rate of $65 per work hour. The manufacturer has committed previously to its customers that it will bear the cost of replacement parts. As a result, the cost of those parts is not attributable to this AD. Based on these figures, the estimated cost of that currently required action is $3,250 per airplane.

The new actions required by this AD will take about 250 work hours per airplane, at an average labor rate of $65 per work hour. Required parts will cost about $9,880 per airplane. Based on these figures, the estimated cost of the new actions required by this AD is $26,130 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11636 (65 FR 15226, March 22, 2000) and adding the following new airworthiness directive (AD):

2005-25-02 Aerospatiale: Amendment 39-14395. Docket No. FAA-2005-22454; Directorate Identifier 2001-NM-108-AD.

Effective Date

(a) This AD becomes effective January 9, 2006.

Affected ADs

(b) This AD supersedes AD 2000-05-26.

Applicability

(c) This AD applies to all Aerospatiale Model ATR42-200, ATR42-300, and ATR-320 airplanes, certificated in any category.

Unsafe Condition

(d) This AD results from discovery of cracks around key holes on certain fuselage frames where rivets were missing. We are issuing this AD to prevent fatigue cracks of the cargo door skin, certain frames, and entry door stop fittings and friction plates, which could result in reduced structural integrity of the airplane.

Compliance

(e) You are responsible for having the actions required by this AD performed within the compliance times specified, unless the actions have already been done.

Restatement of the Requirements of AD 2000-05-26

Frame 25 and 27 Inspection

(f) For airplanes having serial numbers 005 through 016 inclusive, 018 through 030 inclusive, 032 through 036 inclusive, 038, 040, 042, 043, 048 through 062 inclusive, 064 through 090 inclusive, 092 through 094 inclusive, and 096 through 228 inclusive: Prior to the accumulation of 36,000 total flight cycles, or within 180 days after April 26, 2000, (the effective date of AD 2000-05-26) whichever occurs later, conduct a general visual inspection of fuselage frames 25 and 27 to verify the proper installation of a rivet in each of the key holes, in accordance with Avions de Transport Regionale (ATR) Service Bulletin ATR42-53-0070, Revision 2, dated March 22, 1993; or Revision 3, dated February 19, 1999.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: Inspection of fuselage frames 25 and 27 accomplished prior to April 26, 2000, in accordance with ATR Service Bulletin ATR42-53-0070, dated June 10, 1991; or Revision 1, dated June 12, 1992; is considered acceptable for compliance with the requirements of paragraph (f) of this AD.

(1) If a rivet is installed in each of the key holes, no further action is required by this paragraph.

(2) If a rivet is not installed in each of the key holes, prior to further flight, perform an eddy current inspection of each open key hole to detect cracks, in accordance with the service bulletin.

(i) If no crack is found during the eddy current inspection, prior to further flight, install a rivet in the open key hole in accordance with the service bulletin. After such installation, no further action is required by this paragraph for that key hole.

(ii) If any crack is found during the eddy current inspection, prior to further flight, repair the crack in accordance with a method approved by the Manager, International Branch, ANM-116, Transport Airplane Directorate, FAA; or the Direction Générale de l'Aviation Civile (DGAC) (or its delegated agent). For a repair method to be approved by the Manager, International Branch, ANM-116, as required by this paragraph, the Manager's approval letter must specifically reference this AD.

Inspection and Modification of Cargo Door Structure

(g) For airplanes equipped with a cargo compartment door on which Aerospatiale Modification 3191 has not been accomplished: Prior to the accumulation of 27,000 total flight cycles, or within 180 days after April 26, 2000, whichever occurs later, except as provided by paragraph (h) of this AD, replace the hinges on the cargo compartment door and fuselage (including inspections for fastener type and tolerances, hole diameters, or cracking, and repair; as applicable) with new improved hinges, in accordance with paragraph 2. of the Accomplishment Instructions of ATR Service Bulletin ATR42-52-0058, Revision 1, dated March 1, 1995; or ATR42-52-0058, Revision 2, dated June 22, 2000.

(h) Where the instructions in ATR Service Bulletin ATR42-52-0058, Revision 1, dated March 1, 1995; or ATR42-52-0058, Revision 2, dated June 22, 2000, specify that ATR is to be contacted for a repair, prior to further flight, repair in accordance with a method approved by the Manager, International Branch, ANM-116, or the DGAC (or its delegated agent).

Frame Inspection

(i) For airplanes having serial numbers 003 through 208 inclusive: Prior to the accumulation of 36,000 total flight cycles, or within 180 days after April 26, 2000, whichever occurs later, conduct a general visual inspection of the identified fuselage frames for proper installation of a rivet in each of the tooling and key holes, in accordance with ATR Service Bulletin ATR42-53-0076, Revision 2, dated October 15, 1996; or Revision 3, dated February 19, 1999.

(1) If a rivet is installed in each of the tooling or key holes, no further action is required by this paragraph.

(2) If a rivet is not installed in each of the tooling and key holes, prior to further flight, perform a detailed inspection of each open tooling or key hole to detect cracks, in accordance with the service bulletin.

Note 3: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(i) If no crack is found during the detailed inspection required by paragraph (i)(2) of this AD, prior to further flight, install a rivet in the open hole in accordance with the service bulletin.

(ii) If any crack is found during the inspection required by paragraph (i)(2) of this AD, prior to further flight, repair the crack in accordance with a method approved by the Manager, International Branch, ANM-116; or the DGAC (or its delegated agent).

Inspection and/or Replacement of Entry Door Structure

(j) For Model ATR42-300 airplanes having serial numbers listed in ATR Service Bulletin ATR42-52-0052, Revision 1, dated March 2, 1993: Except as provided by paragraph (f) of this AD, prior to the accumulation of 10,000 total flight cycles, or within 90 days after April 26, 2000, whichever occurs later, accomplish the requirements of paragraphs (j)(1) and (j)(2) of this AD.

(1) Perform an eddy current inspection of the forward entry door stop holes to detect cracking, in accordance with the service bulletin. If any cracking is detected, prior to further flight, replace any cracked forward entry door stop fitting with a new fitting, in accordance with the service bulletin.

(2) Perform a detailed inspection of the forward entry door friction plates for wear, in accordance with the service bulletin. If wear is found on any friction plate, and the wear has a depth equal to or greater than 0.8mm (0.0315 in.), prior to further flight, replace the friction plate with a new or serviceable part in accordance with the service bulletin.

(k) For Model ATR42-300 airplanes listed in ATR Service Bulletin ATR42-52-0052, Revision 1, dated March 2, 1993, accomplishment of the requirements of paragraph (l) of this AD at the time specified in paragraph (j) of this AD constitutes terminating action for the requirements of paragraph (j) of this AD.

(l) For Model ATR42-300 airplanes listed in ATR Service Bulletin ATR42-52-0059, dated February 16, 1995: Prior to the accumulation of 18,000 total flight cycles, or within 180 days after April 26, 2000, whichever occurs later, accomplish the requirements of paragraphs (l)(1), (l)(2), and (l)(3) of this AD in accordance with the service bulletin.

(1) Replace the forward entry door friction plates with improved friction plates.

(2) Replace the upper corners of the forward entry door surround structure with improved door surround corners.

(3) Replace the forward entry door stop fittings and bolts with improved fittings and bolts.

New Requirements of This AD

Replacing Hinges on the Cargo Compartment Door and Fuselage

(m) For airplanes identified as having main serial numbers (MSNs) 317, 319, 321, 323, 325, 327, 329 through 335 inclusive, 360, and 368, that are equipped with a cargo compartment door on which Aerospatiale Modification 3191 has not been accomplished: Prior to the accumulation of 27,000 total flight hours, or within 180 days after the effective date of this AD, whichever occurs later, replace the hinges on the cargo compartment door and fuselage (including inspections for fastener type and tolerances, hole diameters, or cracking, and repair; as applicable) with new improved hinges, in accordance with the Accomplishment Instructions of Avions de Transport Regional (ATR) Service Bulletin ATR42-52-0058, Revision 2, dated June 22, 2000.

(n) Where the instructions in ATR Service Bulletin ATR42-52-0058, Revision 2, dated June 22, 2000, specify that ATR is to be contacted for a repair, prior to further flight, repair in accordance with a method approved by the Manager, International Branch, ANM-116; or the DGAC (or its delegated agent).

Alternative Methods of Compliance (AMOCs)

(o)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(p) French airworthiness directive 2000-337-079(B), dated July 26, 2000, also addresses the subject of this AD.

Material Incorporated by Reference

(q) You must use the service bulletins listed in Table 1 of this AD to perform the actions that are required by this AD, unless the AD specifies otherwise.

Table 1.—Material Incorporated by Reference
Avions de Transport regional service bulletin | Revision level | Date
ATR42-52-0052 | 1 | March 2, 1993.
ATR42-52-0058 | 1 | March 1, 1995.
ATR42-52-0058 | 2 | June 22, 2000.
ATR42-52-0059 | Original | February 16, 1995.
ATR42-53-0070 | 2 | March 22, 1993.
ATR42-53-0070 | 3 | February 19, 1999.
ATR42-53-0076 | 2 | October 15, 1996.
ATR42-53-0076 | 3 | February 19, 1999.

(1) The Director of the Federal Register approved the incorporation by reference of Avions de Transport Regional Service Bulletin ATR42-52-0058, Revision 2, dated June 22, 2000, in accordance with 5 U.S.C. 552(a) and 1 CFR part 51.

(2) On April 26, 2000 (65 FR 15226, March 22, 2000), the Director of the Federal Register approved the incorporation by reference of the Avions de Transport Regionale service information as listed in Table 2 of this AD.

Table 2.—Previous Material Incorporated by Reference
Avions de Transport regionale service bulletin | Revision level | Date
ATR42-52-0052 | 1 | March 2, 1993.
ATR42-52-0058 | 1 | March 1, 1995.
ATR42-52-0059 | Original | February 16, 1995.
ATR42-53-0070 | 3 | February 19, 1999.
ATR42-53-0076 | 2 | October 15, 1996.
ATR42-53-0076 | 3 | February 19, 1999.

(3) On November 18, 1993, (58 FR 53853, October 19, 1993), the Director of the Federal Register approved the incorporation by reference of Avions de Transport Regionale Service Bulletin ATR42-53-0070, Revision 2, dated March 22, 1993.

(4) Contact Aerospatiale, 316 Route de Bayonne, 31060 Toulouse, Cedex 03, France, for copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 25, 2005.
Ali Bahrami,
Manager, Transport Airplane Directorate, Aircraft Certification Service.

[FR Doc. 05-23556 Filed 12-2-05; 8:45 am]

BILLING CODE 4910-13-P